DEPARTMENT OF THE INTERIOR

Office of the Secretary

[189D0102DM DS62200000 DLSN00000.000000 DX.62201; OMB Control Number 1090-0009]

Agency Information Collection Activities; Submission to the Office of Management and Budget for Review and Approval; Donor Certification Form

AGENCY: Office of the Secretary, Office of Financial Management, Interior.

ACTION: Notice of information collection; request for comment.

SUMMARY: In accordance with the Paperwork Reduction Act of 1995, we, the Office of Financial Management are proposing to renew an information collection.

DATES: Interested persons are invited to submit comments on or before November 21, 2018.

ADDRESSES: Send written comments on this information collection request (ICR) to the Office of Management and Budget's Desk Officer for the Department of the Interior by email at OIRA_Submission@omb.eop.gov; or via facsimile to (202) 395-5806. Please provide a copy of your comments to Paul Batlan, Office of Financial Management, 1849 C St. NW, MS 2557 MIB, Washington, DC 20240, or email him at Paul_Batlan@ios.doi.gov. Please reference OMB Control Number 1090-0009 in the subject line of your comments.

FOR FURTHER INFORMATION CONTACT: To request additional information about this ICR, contact Paul Batlan by email at Paul_Batlan@ios.doi.gov. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on May 8, 2018 (83 FR 20852). No comments were received.

We are again soliciting comments on the proposed ICR that is described below. We are especially interested in public comment addressing the following issues: (1) Is the collection necessary to the proper functions of the Office of Financial Management; (2) will this information be processed and used in a timely manner; (3) is the estimate of burden accurate; (4) how might the Office of Financial Management enhance the quality, utility, and clarity of the information to be collected; and (5) how might the Office of Financial Management minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This notice identifies an information collection activity that the Office of Financial Management has submitted to OMB for approval for the Department and its bureaus to continue to collect information from proposed donors relative to their relationship(s) with the Department. The Department and its individual bureaus have gift acceptance authorities. In support of the variety of donation authorities in the Department and increasing numbers of donations, it is the policy of the Department to ask those proposing to donate gifts valued at $25,000 or more to provide information regarding their relationship with the Department. The purpose of this policy is to ensure that the acceptance of a gift does not create legal or ethical issues for the Department, its bureaus, or potential donors. The information will be gathered through the use of a form that collects information relevant to the acceptability of the proposed donation in conformance with the Department's donations policy. The form is completed and certified by the prospective donor then submitted to the Department or its bureau for review. Having the donor certify his or her interactions with the Department gives the staff vetting the proposed donation basic information to be verified, resulting in a more efficient and timely donation review process.

The information collected is as follows:

Information collected | Reason for collection
Name, and indication whether executing in individual capacity, or on behalf of an organization | To identify the donor, and whether the donor is acting individually or on behalf of an organization.
Declaration whether the donor is involved with litigation or controversy with the Department | To assist the Department in determining whether there are any issues associated with the proffer of the gift that need to be more closely examined.
Declaration whether the donor is engaged in any financial or business relationship with the Department | To assist the Department in determining whether there are any issues associated with the proffer of the gift that need to be more closely examined.
Declaration whether the donor has been debarred, excluded or disqualified from the non-procurement common rule, or otherwise declared ineligible from doing business with any Federal agency | To assist the Department in determining whether there are any issues associated with the proffer of the gift that need to be more closely examined.
Declaration as to whether the donation is expected to be involved with marketing or advertising | To assist the Department in determining whether there are any issues associated with the proffer of the gift that need to be more closely examined.
Declaration whether the donor is seeking to attach conditions to the donation | To assist the Department in determining whether there are any issues associated with the proffer of the gift that need to be more closely examined.
Declaration whether this proposed donation is or is not part of a series of donations to the Department | To assist the Department in determining the scope and context of the donation, and to assist in determining whether there are any issues associated with the proffer of the gift that need to be more closely examined.
Signature, Printed Name, Date, Organization, Email address, City, State, Zip, and daytime or work phone number | To establish the contact information of the potential donor, and have the certifier sign the certification form.

Title of Collection: Donor Certification Form.

OMB Control Number: 1090-0009.

Form Number: DI-3680.

Type of Review: Extension of a currently approved collection.

Respondents/Affected Public: Individuals or households, Businesses, Not-for-profit institutions, Tribal governments.

Total Estimated Number of Annual Respondents: 115.

Total Estimated Number of Annual Responses: 115.

Estimated Completion Time per Response: 20 minutes.

Total Estimated Number of Annual Burden Hours: 39 hours.

Respondent's Obligation: Voluntary.

Frequency of Collection: Once per prospective donor per year.

Total Estimated Annual Nonhour Burden Cost: None.

An agency may not conduct or sponsor and a person is not required to respond to a collection of information unless it displays a currently valid OMB control number.

The authority for this action is the Paperwork Reduction Act of 1995 (44 U.S.C. 3501 et seq).

Douglas A. Glenn,
Deputy Chief Financial Officer and Director, Office of Financial Management.

[FR Doc. 2018-22978 Filed 10-19-18; 8:45 am]

BILLING CODE 4334-63-P